DEPARTMENT OF DEFENSE

Department of the Army

Appointment to Serve on the Boards of Directors of Conference USA and the Patriot League

AGENCY: Department of the Army, DoD.

ACTION: Notice.

SUMMARY: The Superintendent of the US Army Military Academy (Lieutenant General Daniel W. Christman and his successors) has been authorized to serve in his official capacity on the boards of directors of Conference USA and the Patriot League.

FOR FURTHER INFORMATION CONTACT: Major Nancy Waldron, Army Standards of Conduct Office, (703) 588-6704.

SUPPLEMENTARY INFORMATION: The Joint Ethics Regulation, DoDD 5500.7-R, allows the Secretary of the Army, with the concurrence of the Department of Defense General Counsel, to authorize employees to participate in their official capacities in the management of certain non-federal entities. 10 U.S.C. 1033. Conference USA and the Patriot League are groups of universities formed to promote competitive athletics while maintaining a focus on academics at their institutions. They have been designated as non-federal entities that employees may serve without compensation as directors, officers, or trustees, pursuant to the regulation. The required authorization and concurrence have been obtained.

Robert L. Swann,
Chief, Standards of Conduct Office.

[FR Doc. 00-4646 Filed 2-25-00; 8:45 am]

BILLING CODE 3710-08-P